FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 012282-002.

Agreement Name: NYK/Kyowa Shipping Co., Ltd. Space Charter Agreement.

Parties: Nippon Yusen Kaisha and NYK Bulk and Project Carriers, Ltd. (acting as a single party) and Kyowa Shipping Co., Ltd.

Filing Party: Rebecca Fenneman; Jeffrey/Fenneman Law and Strategy PLLC.

Synopsis: The amendment corrects the parties' addresses; adds to the geographic scope of the agreement ports in Korea, Solomon Islands, Vanuatu, New Caledonia, Fiji, Western Samoa, Tonga, French Polynesia and Kiribati; amends the authority of the agreement to reflect reciprocal space chartering; and removes all authority to jointly negotiate or procure terminal services in the United States.

Proposed Effective Date: 6/11/2021.

Location: https://www2.fmc.gov/FMC.Agreements.Web/Public/AgreementHistory/142.

Agreement No.: 201362.

Agreement Name: CMA CGM/Marfret Mediterranean—Caribbean/U.S. Gulf Service Space Charter Agreement.

Parties: CMA CGM S.A. and Compagnie Maritime Marfret S.A.S.

Filing Party: Draughn Arbona; CMA CGM (America) LLC.

Synopsis: The Agreement authorizes CMA CGM to charter space to Marfret on vessels operated by CMA CGM in the Trade between Italy, France, Spain, the French Indies, the Dominican Republic, Colombia, Jamaica, Mexico, Costa Rica, Panama, Malta and the U.S. Gulf Coast. The parties request expedited review.

Proposed Effective Date: 7/31/2021.

Location: https://www2.fmc.gov/FMC.Agreements.Web/Public/AgreementHistory/44510.

Dated: June 17, 2021.
Rachel E. Dickon,
Secretary.

[FR Doc. 2021-13203 Filed 6-23-21; 8:45 am]

BILLING CODE 6730-02-P